DEPARTMENT OF HOMELAND SECURITY

Coast Guard

[Docket No. USCG-2010-0595]

Lower Mississippi River Waterway Safety Advisory Committee; Meeting

AGENCY: Coast Guard, DHS.

ACTION: Notice of meeting.

SUMMARY: The Lower Mississippi River Waterway Safety Advisory Committee will meet in New Orleans to discuss various issues relating to navigational safety on the Lower Mississippi River and related waterways. This meeting will be open to the public.

DATES: The Committee will meet on Thursday, September 23, 2010 from 9 a.m. to 12 p.m. This meeting may close early if all business is finished. Written material and requests to make oral presentations should reach the Coast Guard on or before September 9, 2010. Requests to have a copy of your material distributed to each member of the committee should reach the Coast Guard on or before September 9, 2010.

ADDRESSES: The Committee will meet at the New Orleans Yacht Club, 403 North Roadway, West End, New Orleans, LA 70124. Send written material and requests to make oral presentations to Chief Warrant Officer David Chapman, Assistant to the Designated Federal Officer (DFO) of Lower Mississippi River Waterway Safety Advisory Committee, ATTN: Waterways Management, 1615 Poydras St., New Orleans, LA 70112. This notice, and documents identified in the Supplementary Information section as being available in the docket may be viewed in our online docket, USCG-2010-0595, at http://www.regulations.gov. Meeting minutes and materials will be posted in the online docket, USCG-2010-0595, at http://www.regulations.gov following the meeting.

FOR FURTHER INFORMATION CONTACT: Chief Warrant Officer David Chapman, Assistant to DFO of Lower Mississippi River Waterway Safety Advisory Committee, telephone 504-565-5103.

SUPPLEMENTARY INFORMATION: Notice of this meeting is given under the Federal Advisory Committee Act (FACA), 5 U.S.C. App. (Pub. L. 92-463). LMRWSAC is chartered under the Section 19 of the Coast Guard Authorization Act of 1991 (Pub. L. 102-241, as amended by section 418(g) of the Coast Guard and Maritime Transportation Act of 2004, (Pub. L. 108-293). It was established in accordance with and operates under FACA. LMRWSAC provides advice and makes recommendations to the Secretary of the Department of Homeland Security (DHS) through the Commandant of the Coast Guard on matters relating to communications, surveillance, traffic management, anchorages, development and operation of the New Orleans Vessel Traffic Service (VTS), and other related topics dealing with navigation safety on the Lower Mississippi River (LMR) as required.

Agenda of Meeting

The agenda for the September 23, 2010 Committee meeting is as follows:

1. Introduction of committee members.

2. Opening Remarks.

3. Approval of the May 6, 2010 minutes.

4. Old Business—Ongoing items of interest to LMRWSAC.

a. Captain of the Port of New Orleans status report.

b. Subcommittee/Working Groups update reports.

5. New Business.

6. Adjournment.

The minutes of the May 6, 2010 meeting, which will be discussed by the Committee, may be viewed in our online docket. Go to http://www.regulations.gov, enter the docket number for this notice (USCG-2010-0595) in the “Keyword” box, and then click “Search.”

Procedural

This meeting is open to the public. Please note that the meeting may close early if all business is finished. At the Chair's discretion, members of the public may make oral presentations during the meeting. If you would like to make an oral presentation at a meeting, please notify the Assistant to the DFO no later than September 9, 2010. Written material for distribution at a meeting should reach the Coast Guard no later than September 9, 2010. If you would like a copy of your material distributed to each member of the committee in advance of a meeting, please submit 25 copies to the Assistant to the DFO no later than September 9, 2010.

Information on Services for Individuals With Disabilities

For information on facilities or services for individuals with disabilities or to request special assistance at the meeting, contact the DFO as soon as possible.

Dated: July 21, 2010.
Mary E. Landry,
Rear Admiral, U.S. Coast Guard, Commander, Eighth Coast Guard District.

[FR Doc. 2010-20363 Filed 8-17-10; 8:45 am]

BILLING CODE 9110-04-P